DEPARTMENT OF COMMERCE

National Oceanic and Atmospheric Administration

RIN 0648-XA071

Endangered and Threatened Species; Take of Anadromous Fish

AGENCY: National Marine Fisheries Service, National Oceanic and Atmospheric Administration, Commerce.

ACTION: Applications for two new scientific research permits.

SUMMARY: Notice is hereby given that NMFS has received two scientific research permit application requests relating to salmonids listed under the Endangered Species Act (ESA). The proposed research is intended to increase knowledge of the species and to help guide management and conservation efforts.

DATES: Written comments on the permit applications must be received at the appropriate address or fax number (see ADDRESSES) no later than 5 p.m. Pacific standard time on January 7, 2011.

ADDRESSES: Written comments on these applications should be submitted to the Protected Resources Division, NMFS, 777 Sonoma Avenue, Room 315, Santa Rosa, CA 95404. Comments may also be submitted via fax to (707) 578-3435 or by e-mail to FRNpermits.SR@noaa.gov. The applications and related documents may be viewed online at: https://apps.nmfs.noaa.gov/preview/preview_open_for_comment.cfm. These documents are also available upon written request or by appointment by contacting NMFS by phone (707) 575-6097 or fax (707) 578-3435.

FOR FURTHER INFORMATION CONTACT: Jeffrey Jahn, Santa Rosa, CA (ph.: 707-575-6097, e-mail: Jeffrey.Jahn@noaa.gov). Permit application instructions are available from the address above, or online at apps.nmfs.noaa.gov.

SUPPLEMENTARY INFORMATION:

Species Covered in This Notice

This notice is relevant to Federally threatened California Coastal (CC) Chinook salmon (Oncorhynchus tshawytscha), endangered Central California Coast (CCC) Coho salmon (O. kisutch), and threatened CCC steelhead (O. mykiss).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 14513

Dr. Stephanie Carlson, University of California at Berkeley, is requesting a 5-year permit to take adult and juvenile CC Chinook salmon, CCC coho salmon, and CCC steelhead associated with four research projects in two watersheds in central California. In the four studies described below, researchers do not expect to kill any listed fish but a small number may die as an unintended result of the research activities. However, a low number of moribund CCC steelhead may be collected for analysis as part of Project 3, in Pescadero Lagoon.

Project 1 is a study on the summer ecology of juvenile salmonids in streams of the Lagunitas Creek (Marin County) and Pescadero Creek (San Mateo County) watersheds. The study will examine the variation in growth and survival of juvenile CCC coho salmon and CCC steelhead rearing in streams that experience elevated water temperatures and low stream flow volumes in summer. Annually, Dr. Carlson proposes to capture (backpack electrofisher, seine, dip-net), handle (identify, measure and weigh), mark (fin-clips, passive integrated transponder (PIT) tag), sample (scale collection), and release fish. Movements of PIT-tagged fish will be monitored throughout the summer using hand held and stationary PIT-tag readers. In September and October, the study areas will be re-sampled using the same methods as described above. Fish will be scanned for PIT-tags and those recaptured will be re-weighed and measured to determine growth rates. Throughout winter, fish will be monitored for their movements using hand held and stationary PIT-tag readers. Data gathered from this study will provide information on fish growth and survival rates and how these relate to abiotic and biotic variables within the watersheds.

Project 2 is a biotelemetry study of smolt migrations in the Lagunitas Creek and Pescadero Creek watersheds. In the Lagunitas Creek watershed, smolts will be captured in down migrant traps operated by the National Park Service (Permit 1046) and the Marin Municipal Water District (Permit 1047). In the Pescadero Creek Watershed, Dr. Carlson proposes to capture (fyke net, seine) CCC coho salmon and CCC steelhead smolts. In both study areas, Dr. Carlson proposes to anesthetize a subset of captured fish and implant acoustic tags in order to determine salmonid residence time and movements throughout the two estuary environments. Strategically placed acoustic receivers will track the movements of the tagged salmonids in each system. Data collected from tagged fish in these systems will be used to determine differences in survival between permanently-open versus seasonally-closed estuaries and the significance of estuary rearing on the timing of ocean entry.

Project 3 is a study on the ecology of juvenile salmonids in Tomales Bay, and Pescadero Lagoon and their overall dependence on estuarine resources based on an analysis of diet and fish growth. In the two estuaries, Dr. Carlson proposes to capture (hook-and-line, seine), handle (identify, measure, weigh), sample (fin-clip, scale collection, gastric lavage), and release smolts. In Pescadero Lagoon, a subset of fish will be implanted with PIT tags. Adults that are captured will be handled (identified, measured), sampled (scale collection) and released. The data gathered from this project, in addition to Project 2, will provide information on the ecology of juvenile salmonids in estuarine environments, their feeding habits, and how they differ between systems with permanently-open (Tomales Bay) versus seasonally-closed (Pescadero Creek lagoon) estuaries/lagoons.

Project 4 examines smolt production in the Lagunitas Creek watershed by analyzing collected otoliths to determine where smolts that survived to breed as adults reared as juveniles. The otoliths will be obtained from carcasses encountered during annual spawner surveys conducted by the National Park Service and Marin Municipal Water District. Dr. Carlson proposes to conduct additional surveys in order to augment the otolith collection. The results of this project could provide important information on the habitat attributes associated with high productivity areas and could help identify areas of poor productivity that might be candidate sites for habitat restoration.

Permit 15548

Thomas R. Payne and Associates is seeking a ten-year permit to take listed adult and juvenile CCC steelhead while collecting biological data. The purpose of the research is to monitor the distribution, relative abundance and diversity, the condition and general health of fish populations and to describe the existing habitat conditions of Suisun Creek, Green Valley Creek, and Ledgewood Creek in Solano County and Napa County, California. The research would benefit CCC steelhead by producing data to support development of the Solano Habitat Conservation Plan under development as a requirement of a March 1999 biological opinion for the Solano Project Water Service Contract Renewal issued by the U.S. Fish and Wildlife Service. Monitoring activities will take place between July and October at multiple sites in the three creeks using a backpack electrofisher to stun and net fish. Captured fish will be anesthetized prior to handling and then identified, counted, measured, weighed, and released. The researchers do not intend to kill any captured fish but a small number may die as an unintended result of the research activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: December 2, 2010.
Therese Conant,
Acting Chief, Endangered Species Division, Office of Protected Resources, National Marine Fisheries Service.

[FR Doc. 2010-30908 Filed 12-7-10; 8:45 am]

BILLING CODE 3510-22-P